DEPARTMENT OF TRANSPORTATION

Surface Transportation Board

[Docket No. FD 35724 (Sub-No. 1)]

California High-Speed Rail Authority—Construction Exemption—in Fresno, Kings, Tulare, and Kern Counties, Cal

AGENCY: Surface Transportation Board, DOT.

ACTION: Notice of construction exemption.

SUMMARY: The Board is granting an exemption under 49 U.S.C. 10502 from the prior approval requirements of 49 U.S.C. 10901 for the California High-Speed Rail Authority (Authority) to construct an approximately 114-mile high-speed passenger rail line between Fresno and Bakersfield, California (the Line). The Line would be the second section of the statewide California High-Speed Train System. This exemption is subject to environmental mitigation conditions and the condition that the Authority build the route designated as environmentally preferable.

DATES: The exemption will be effective on August 27, 2014; petitions to reopen must be filed by September 2, 2014.

ADDRESSES: An original and ten copies of all pleadings, referring to Docket No. FD 35724 (Sub-No. 1), must be filed with the Surface Transportation Board, 395 E Street SW., Washington, DC 20423-0001. In addition, one copy of each filing in this proceeding must be served on the Authority's representative: Linda J. Morgan, Nossaman LLP, 1666 K Street NW., Suite 500, Washington, DC 20006.

FOR FURTHER INFORMATION CONTACT: Scott M. Zimmerman, (202) 245-0386. [Assistance for the hearing impaired is available through the Federal Information Relay Service (FIRS) at: 1-800-877-8339].

Copies of written filings will be available for viewing and self-copying at the Board's Public Docket Room, Room 131, and will be posted to the Board's Web site.

SUPPLEMENTARY INFORMATION: Additional information is contained in the Board's decision. Board decisions and notices are available on our Web site at WWW.STB.DOT.GOV.

Decided: August 11, 2014.
By the Board, Chairman Elliott, Vice Chairman Miller, and Commissioner Begeman. Vice Chairman Miller concurred with a separate expression and Commissioner Begeman dissented with a separate expression.
Jeffrey Herzig,
Clearance Clerk.

[FR Doc. 2014-19431 Filed 8-14-14; 8:45 am]

BILLING CODE 4915-01-P